POSTAL SERVICE

39 CFR Part 111

Use of Foreign Return Addresses on Domestic Mailpieces

AGENCY: Postal Service™.

ACTION: Proposed rule.

SUMMARY: The Postal Service is proposing to amend Mailing Standards of the United States Postal Service, Domestic Mail Manual (DMM®) in various subsections to clarify the consequences of the use of a foreign return address on a domestic mailpiece.

DATES: Submit comments on or before December 6, 2023.

ADDRESSES: Mail or deliver written comments to the Director, Product Classification, U.S. Postal Service, 475 L'Enfant Plaza SW, Room 4446, Washington, DC 20260-5015. If sending comments by email, include the name and address of the commenter and send to PCFederalRegister@usps.gov, with a subject line of “Use of Foreign Return Addresses”. Faxed comments are not accepted.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: Catherine Knox at (202) 268-5636, Treishawna Harris at (202) 268-2965, or Garry Rodriguez at (202) 268-7281.

SUPPLEMENTARY INFORMATION: All submitted comments and attachments are part of the public record and subject to disclosure. Do not enclose any material in your comments that you consider to be confidential or inappropriate for public disclosure.

Effective April 1, 2023, DMM subsection 602.1.5.4, Using Return Addresses, was amended by publication in Postal Bulletin 22619 (3-9-23) to eliminate an exception that allowed a domestic mailpiece to have a foreign return address in certain circumstances as a courtesy. The Postal Service is proposing to further amend subsection 602.1.5.4 and various other subsections in the DMM to clarify the procedures applicable to the undeliverable domestic mailpieces bearing a foreign return address.

The elimination of the courtesy exception allowing foreign return addresses on domestic mailpieces under certain circumstances requires amendment of the procedures that apply to undeliverable domestic mailpieces bearing a foreign return address, which are no longer authorized under DMM 602.1.5.4. Therefore, the Postal Service is proposing to revise DMM subsections 602.1.5.4, and 609.4.3, to clarify procedures applicable to undeliverable domestic mailpieces bearing a foreign return address.

The Postal Service is authorized pursuant to 39 U.S.C. 404(a)(1) to provide for the disposition of undeliverable mail. However, for the Postal Service to incur destination country delivery charges as a result of attempting to return certain undeliverable domestic mailpieces with a foreign return address is not practicable. Thus, under this proposed rule, such mailpieces would be handled by the Postal Service, in accordance with Postal Service's dead mail procedures.

In addition, if the proposed rule is adopted the Postal Service would also revise a few related sections of the International Mail Manual (IMM) including subsection 762.2, Undeliverable Domestic Mail Bearing U.S. Postage and a Foreign Return Address.

The Postal Service is proposing to implement this change effective January 1, 2024.

We believe the proposed revisions will provide customers with a more efficient mailing experience. Although exempt from the notice and comment requirements of the Administrative Procedure Act (5 U.S.C. 553(b), (c)) regarding proposed rulemaking by 39 U.S.C. 410(a), the Postal Service invites public comment on the following proposed revisions to Mailing Standards of the United States Postal Service, Domestic Mail Manual (DMM), incorporated by reference in the Code of Federal Regulations. See 39 CFR 111.1.

If the proposed rule is adopted, we will publish an appropriate amendment to 39 CFR part 111 to reflect these changes.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

600 Basic Standards for All Mailing Services

* * * * *

602 Addressing

1.0 Elements of Addressing

* * * * *

1.5 Return Addresses

* * * * *

[Revise the heading of 1.5.4 to read as follows:]

1.5.4 Use of Foreign Return Addresses

[Revise the text of 1.5.4 to read as follows:]

When U.S. postage is applied to a domestic mailpiece, as defined under 608.2.1 and 608.2.2, only a domestic return address is authorized. An undeliverable domestic mailpiece bearing a foreign return address cannot be returned to sender and will be handled as dead mail under 507.1.9.

* * * * *

609 Filing Indemnity Claims for Loss or Damage

* * * * *

4.0 Claims

* * * * *

4.3 Nonpayable Claims

Indemnity is not paid for insured mail (including Priority Mail Express and Priority Mail), Registered Mail, COD, or Priority Mail and Priority Mail Express in these situations:

* * * * *

[Revise the text of 4.3 by adding a new item “ag” to read as follows:]

ag. An undeliverable, registered or insured domestic mailpiece bearing a foreign return address.

* * * * *

Sarah Sullivan,
Attorney, Ethics & Legal Compliance.

[FR Doc. 2023-24447 Filed 11-3-23; 8:45 am]

BILLING CODE P